DEPARTMENT OF COMMERCE

National Oceanic and Atmospheric Administration

Notice of Availability for Public Comment on the U.S. Integrated Ocean Observing System Advisory Committee; Committee Proposed Draft “IOOS Vision”

AGENCY: National Ocean Service, National Oceanic and Atmospheric Administration (NOAA), Department of Commerce.

ACTION: Request for Public Comments.

SUMMARY: The U.S. Integrated Ocean Observing System (IOOS) Program in NOAA publishes this notice on behalf of the U.S. IOOS Advisory Committee (the Committee) to announce a 30-day public comment period for the draft “IOOS Vision” statement. The Committee and U.S. IOOS stakeholders will use the “IOOS Vision” to provide clear, consistent messaging on U.S. IOOS to public sectors on the mission and value of U.S. IOOS.

DATES: Written, faxed or emailed comments must be received no later than 5 p.m. eastern daylight time on May 3, 2013.

ADDRESSES: The draft “IOOS Vision” and additional background material on the Committee is available for review from the U.S. IOOS Web site URL: http://www.ioos.noaa.gov/advisorycommittee. For the public unable to access the Internet, printed copies can be requested by contacting the U.S. IOOS Program Office at the address below. The public is encouraged to submit comments electronically to ioos.advisorycommittee@noaa.gov. If you are unable to access the Internet, comments may be submitted via fax or regular mail. Faxed comments should be sent to 301-427-2073 with Attn: IOOS Advisory Committee. Comments may be submitted in writing to the U.S. IOOS Program Office Attention: IOOS Advisory Committee, 1100 Wayne Avenue, Suite 1225, Silver Spring, MD 20910.

FOR FURTHER INFORMATION CONTACT: For further information about this notice, please contact the Jessica Snowden, Alternate DFO for the U.S. IOOS Advisory Committee, telephone: 301-427-2453; Email: Jessica.snowden@noaa.gov.

SUPPLEMENTARY INFORMATION: On 30 March 2009, President Barack Obama signed into law the Integrated Coastal and Ocean Observation System (ICOOS) Act of 2009 (the Act). Among the requirements in the Act is a directive for the NOAA Administrator to establish the U.S. IOOS Advisory Committee, a federal advisory committee. The Committee provides advice as may be requested by the NOAA Administrator or the Interagency Ocean Observing Committee (IOOC). The Committee was officially established in August 2012.

Specific areas on which the Committee is to provide advice are: administration, operation, management, and maintenance of IOOS, including integration of Federal and non-Federal assets and data management and communication aspects of IOOS, and fulfillment of the purposes set forth in section 12302 of the ICOOS Act; expansion and periodic modernization and upgrade of technology components of IOOS; identification of end-user communities, their needs for information provided by IOOS, and the IOOS's effectiveness in disseminating information to end-user communities and the general public; and any other purpose identified by the NOAA Administrator or the IOOC.

The Committee is composed of members appointed by the NOAA Administrator. Members are qualified by education, training, and experience to evaluate scientific and technical information related to the design, operation, maintenance, or use of IOOS, or use of data products provided through IOOS. Members are appointed for 3-year terms, renewable once.

The Committee meets at least once each year, and at other times at the call of the NOAA Administrator, the IOOC, or the chairperson.

Dated: March 20, 2013.
Christopher C. Cartwright,
Associate Assistant Administrator for Management and CFO/CAO, Ocean Service and Coastal Zone Management.

[FR Doc. 2013-07592 Filed 4-2-13; 8:45 am]

BILLING CODE P